OFFICE OF NATIONAL DRUG CONTROL POLICY

Notice of HIDTA Designations

Heading: Designation of 26 Counties/Cities as High Intensity Drug Trafficking Areas.

SUMMARY: The Director of the Office of National Drug Control Policy designated 26 additional counties/cities as High Intensity Drug Trafficking Areas (HIDTA) pursuant to 21 U.S.C. 1706. The new counties/cities are (1) Madison and Nelson Counties in Kentucky, Tazewell County in Virginia, and Harrison County in West Virginia as part of the Appalachia HIDTA; (2) Pasco County in Florida as part of the Central Florida HIDTA; (3) Trinity and Siskiyou Counties in California as part of the Central Valley California HIDTA; (4) Brazoria County in Texas as part of the Houston HIDTA; (5) Rockingham County in New Hampshire as part of the New England HIDTA; (6) Chautauqua, Dutchess, Putnam, and Rockland Counties in New York as part of the New York/New Jersey HIDTA; (7) Ada and Canyon Counties in Idaho, and Malheur County in Oregon as part of the Oregon HIDTA; (8) Gallatin County in Montana as part of the Rocky Mountain HIDTA; (9) Potter and Randall Counties in Texas as part of the Texoma HIDTA; and (10) Berkeley County in West Virginia and the Cities of Chesapeake, Hampton, Newport News, Norfolk, Portsmouth, and Virginia Beach in Virginia as part of the Washington/Baltimore HIDTA.

FOR FURTHER INFORMATION CONTACT: Questions regarding this notice should be directed to Michael K. Gottlieb, National HIDTA Program Director, Office of National Drug Control Policy, Executive Office of the President, Washington, DC 20503; (202) 395-4868.

Dated: September 29, 2014.
Submitted October 6, 2014.
Daniel Rader,
Deputy General Counsel.

[FR Doc. 2014-24176 Filed 10-9-14; 8:45 am]

BILLING CODE 3280-F5-P